DEPARTMENT OF TRANSPORTATION

Research and Innovative Technology Administration

Agency Information Collection; Activity Under OMB Review; Collection of Data for Program Evaluation

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) described below is being forwarded to the Office of Management and Budget (OMB) for approval for a new information collection related to the evaluation of a five-year demonstration/research program on voluntary reporting of close calls and near misses in the rail environment. The ICR describes the nature of the information collection and its expected burden. The Federal Register notice with a 60-day comment period soliciting comments on the following collection of information was published on May 10, 2006 (71 FR 27313) and the comment period ended on July 9, 2006. The 60-day notice produced no comments.

DATES: Written comments should be submitted by August 14, 2006.

FOR FURTHER INFORMATION CONTACT: Ms. Demetra V. Collia, Room 3430, RITA, BTS, Department of Transportation, 400 Seventh Street, SW., Washington, DC 20590-0001. Telephone (202) 366-1610, Fax (202) 493-0568 or e-mail demetera.collia@dot.gov.

SUPPLEMENTARY INFORMATION: Title: Collection of Data for Program Evaluation.

Type of Request: Approval of a new information collection.

OMB Control Number: New.

Affected Public: Workers in the railroad industry.

Number of Respondents: 1200.

Number of Responses: 1200.

Total Annual Burden: 600 hours (Average estimate of 30 minutes to complete the survey resulting in a total of 600 hours).

Abstract: Collecting data on the nation's transportation system is an important component of BTS' responsibility to the transportation community and is authorized in BTS statutory authority (49 U.S.C. 111(c)(1) and (2) and 49 U.S.C. 111(c)(5)(j)). Further, BTS and FRA share a common interest in promoting rail safety based on better data. In recognition of the need for new approaches to improving safety, the FRA has initiated a research program called the Confidential Close Call Reporting System (C³RS). The C³RS is designed to identify safety issues and propose corrective actions based on voluntary reports of close calls submitted to BTS. BTS will collect reports on close calls and near misses submitted by railroad employees, develop an analytical database containing the reported data and other pertinent information, and protect the confidentiality of these data through its own statute (49 U.S.C. 111(i)) and the Confidential Information Protection and Statistical Efficiency Act of 2002 (CIPSEA). BTS is seeking a separate OMB approval for the collection of close call reports (71 FR 24913, April 27, 2006) which does not involve the evaluation of the reporting system.

While C³RS is being implemented with the participation of the FRA, railroad labor, and railroad management, there are legitimate questions about whether it is being implemented in the most effective way, and whether it will have its intended effect. Further, even if C³RS is successful, it will be necessary to know if it is successful enough to implement on a wide scale. To address these important questions, the FRA is implementing a formative evaluation to guide program development, a summative evaluation to assess impact, and a sustainability evaluation to determine how C³RS can continue after the test period is over. BTS will collect, process, and analyze the survey data for the evaluation of C³RS.

Employees of selected railroad sites (pilot sites) will be asked to fill out a questionnaire which will be made available to them at town hall meetings and mail back to BTS. Data will be collected from the entire population of affected workers (estimate 1200 or less). The survey will ask respondents to provide information on: (a) Beliefs about rail safety; (b) issues and personal concerns related to implementation of safety programs in their work environment; (c) knowledge and views on voluntary reporting of unsafe events; and (d) opinions and observations about the operation of C³RS at their work site. It is estimated that the survey will take no more than 30 minutes to complete for a maximum total burden of 600 hours (1200 respondents*30 minutes/60 = 600 hours).

ADDRESSES: The agency seeks public comments on its proposed information collection. Comments should address whether the information will have practical utility; the accuracy of the agency's estimate of the burden of the proposed information collection; ways to enhance the quality, utility and clarity of the information to be collected; and ways to minimize the burden of the collection of information on respondents, including the use of automated collection techniques or other forms of information technology. Send comments to the Office of Information and Regulatory Affairs, Office of Management and Budget, 725-17th Street, NW., Washington, DC 20503, Attention: BTS Desk Officer.

Issued in Washington, DC, on this 6th day of July, 2006.
William Bannister,
Acting Deputy Director, Bureau of Transportation Statistics, Research and Advanced Technology Administration, U.S. Department of Transportation.

[FR Doc. E6-11035 Filed 7-12-06; 8:45 am]

BILLING CODE 4910-HY-P